DEPARTMENT OF COMMERCE

International Trade Administration

[A-337-803]

Notice of Initiation of Antidumping Duty Changed Circumstances Review: Fresh Atlantic Salmon from Chile

AGENCY: Import Administration, International Trade Administration, Department of Commerce.

SUMMARY: In accordance with section 751(b) of the Tariff Act of 1930, as amended (the Act), and 19 CFR 351.216(b)(2003) of the Department of Commerce's (the Department's) regulations, L.R. Enterprises, Inc. (L.R. Enterprises), Heritage Salmon Inc., Maine Nordic Salmon, Stolt Sea Farms Inc., Cypress Island Inc., Atlantic Salmon of Maine, and Trumpet Island Salmon Farm Inc., U.S. producers of fresh Atlantic salmon, each filed a request for a changed circumstances review of the antidumping duty (AD) order on fresh Atlantic salmon from Chile. Specifically, the parties request that the Department grant revocation of the AD order retroactive to July 1, 2001, the first day of the period of review covered by the on-going fourth administrative review. The domestic industry has affirmatively expressed a lack of interest in the continuation of the order. In response to the request, the Department is initiating a changed circumstances review with respect to the AD order on fresh Atlantic salmon from Chile.

EFFECTIVE DATE: May 23, 2003.

FOR FURTHER INFORMATION CONTACT: Keith Nickerson or Constance Handley, at (202) 482-3813 or (202) 482-0631, respectively; AD/CVD Enforcement Office V, Group II, Import Administration, International Trade Administration, U.S. Department of Commerce, 14th Street & Constitution Avenue, NW, Washington, D.C. 20230.

SUPPLEMENTARY INFORMATION:

Background

On July 30, 1998, the Department issued an AD order on fresh Atlantic salmon from Chile. See Notice of Amended Final Determination of Sales at Less Than Fair Value and Antidumping Duty Order: Fresh Atlantic Salmon from Chile, 63 FR 40699 (July 30, 1998). On July 1, 2002, the Department issued a notice of opportunity to request the fourth administrative review of this order. See Antidumping or Countervailing Duty Order, Finding, or Suspended Investigation; Opportunity to Request Administrative Review, 67 FR 44172 (July 1, 2002).

On July 31, 2002, in accordance with 19 CFR 351.213(b), L.R. Enterprises requested a review of 90 producers/exporters of fresh Atlantic salmon. On August 27, 2002, the Department published the notice of initiation of this AD administrative review, covering the period July 1, 2001, through June 30, 2002. See Initiation of Antidumping and Countervailing Duty Administrative Reviews and Requests for Revocation in Part, 67 FR 55000 (August 27, 2002). L.R. Enterprises subsequently withdrew its request for review of all but 13 of these companies. For a detailed discussion of L.R. Enterprises' withdrawals, as well as a listing of which respondents requested reviews, see Notice of Partial Rescission of Antidumping Duty Administrative Review: Fresh Atlantic Salmon from Chile, 67 FR 76378 (December 12, 2002) (Partial Rescission Notice).

On April 29, 2003, L.R. Enterprises withdrew all requests for administrative reviews of the producers/exporters of fresh Atlantic salmon from Chile. Furthermore, L.R. Enterprises stated that it had no interest in maintaining the AD order. Subsequently, by letters dated April 29, 2003, five U.S. producers of fresh Atlantic salmon including Heritage Salmon Inc., Maine Nordic Salmon, Stolt Sea Farms Inc., Cypress Island Inc., and Atlantic Salmon of Maine, requested that the Department initiate a changed circumstances review for the purposes of revoking the AD order on the subject merchandise. On May 2 and 7, 2003, L. R. Enterprises and Trumpet Island Salmon Farm Inc., respectively, submitted their requests to the Department for the initiation of a changed circumstances review for the purpose of revoking the AD order. All parties request that the Department grant revocation of the AD order retroactive to July 1, 2001, the first day of the period of review covered by the on-going fourth administrative review.

In accordance with 19 CFR 351.222(g), due to the lack of the domestic industry's interest, the Department finds that changed circumstances sufficient to warrant revocation may exist. Therefore, the Department is initiating a changed circumstances review under 19 CFR 351.216. This initiation will enable the Department to solicit comments from all interested parties to determine whether substantially all of the domestic producers support revocation of the order with respect to the subject merchandise. See Certain Tin Mill Products from Japan: Final Results of Changed Circumstances Review, 66 FR 52109 (October 12, 2001).

Scope of the Order

The product covered by this order is fresh, farmed Atlantic salmon, whether imported “dressed” or cut. Atlantic salmon is the species Salmo salar, in the genus Salmo of the family salmoninae. “Dressed” Atlantic salmon refers to salmon that has been bled, gutted, and cleaned. Dressed Atlantic salmon may be imported with the head on or off; with the tail on or off; and with the gills in or out. All cuts of fresh Atlantic salmon are included in the scope of the order. Examples of cuts include, but are not limited to: crosswise cuts (steaks), lengthwise cuts (fillets), lengthwise cuts attached by skin (butterfly cuts), combinations of crosswise and lengthwise cuts (combination packages), and Atlantic salmon that is minced, shredded, or ground. Cuts may be subjected to various degrees of trimming, and imported with the skin on or off and with the “pin bones” in or out.

Excluded from the scope are (1) fresh Atlantic salmon that is “not farmed” (i.e., wild Atlantic salmon); (2) live Atlantic salmon; and (3) Atlantic salmon that has been subject to further processing, such as frozen, canned, dried, and smoked Atlantic salmon, or processed into forms such as sausages, hot dogs, and burgers.

The merchandise subject to this order is classifiable as item numbers 0302.12.0003 and 0304.10.4093 of the Harmonized Tariff Schedule of the United States (HTSUS). Although the HTSUS statistical reporting numbers are provided for convenience and customs purposes, the written description of the merchandise is dispositive.

Initiation of Changed Circumstances Antidumping Duty Administrative Review

Pursuant to sections 751(d)(1) and 782(h)(2) of the Act, the Department may revoke an antidumping or countervailing duty order, in whole or in part, based on a review under section 751(b) of the Act (i.e., a changed circumstances review). Section 751(b)(1) of the Act requires a changed circumstances review to be conducted upon receipt of a request which shows changed circumstances sufficient to warrant review of a final affirmative antidumping determination. Section 351.222(g)(2) of the Department's regulations provides that the Department will conduct a changed circumstances review under 19 CFR 351.216 if the Secretary concludes from the available information that changed circumstances sufficient to warrant revocation or termination may exist. The Department may revoke an order (in whole or in part), if the Secretary determines that: (i) producers accounting for substantially all of the production of the domestic like product to which the order (or the part of the order to be revoked) pertains have expressed a lack of interest in the relief provided by the order, in whole or in part, or (ii) if other changed circumstances sufficient to warrant revocation exist. In this context, the Department has interpreted “substantially all” production normally to mean at least 85 percent of domestic production of the like product. See Certain Tin Mill Products From Japan: Final Results of Changed Circumstances Review, 66 FR 52109 (October 12, 2001); see also, 19 CFR 351.208(c). According to the record of this case the following are U.S. producers of fresh Atlantic salmon: L.R. Enterprises, Heritage Salmon Inc., Maine Nordic Salmon, Stolt Sea Farms Inc., Cypress Island Inc., Atlantic Salmon of Maine, and Trumpet Island Salmon Farm Inc. Based upon the statement of no interest by the U.S. producers referenced above, the Department determines that changed circumstances sufficient to warrant revocation may exist. Therefore, the Department is initiating this changed circumstances review.

We will publish in the Federal Register a notice of preliminary results of the AD changed circumstances review, in accordance with 19 CFR 351.221(b)(4) and 351.221(c)(3)(i), which will set forth the factual and legal conclusions upon which our preliminary results are based and a description of any action proposed based on those results. As per 19 CFR 351.221(b)(4), interested parties will have an opportunity to comment. Interested parties may submit comments for consideration in the Department's preliminary results not later than 20 days after publication of this notice. Rebuttals to those comments may be submitted not later than 10 days following submission of the comments. All written comments must be submitted to the Department and served on all interested parties on the Department's service list in accordance with 19 CFR 351.303. The Department will issue its final results of review no later than 270 days after publication of this notice of initiation. During the course of this changed circumstances review, the current requirement for a cash deposit of estimated antidumping duties on all subject merchandise, including the merchandise subject to this changed circumstances review, will continue unless and until it is modified pursuant to the final results of this changed circumstances review or other administrative review.

This notice is in accordance with sections 751(b)(1) and 777(I)(1) of the Act and 19 CFR 351.216, 351.221(b), and 351.222(g)(3)(I).

Dated: May 16, 2003.
Jeffrey May,
Acting Assistant Secretary for Import Administration.

[FR Doc. 03-13027 Filed 5-22-03; 8:45 am]

BILLING CODE 3510-DS-S